DEPARTMENT OF TRANSPORTATION

Federal Highway Administration

Environmental Impact Statement: Multnomah County, Oregon

AGENCIES: Federal Highway Administration, Department of Transportation.

ACTION: Notice of intent.

SUMMARY: The Federal Highway Administration (FHWA) is issuing this notice of intent to advise agencies and the public that an Environmental Impact Statement (EIS) will be prepared to assess the impacts of proposed repair or replacement of the Sellwood Bridge over the Willamette River in Portland, Oregon.

DATES: Public and Agency meetings will be advertised and held in Portland, Oregon during the development of the EIS.

FOR FURTHER INFORMATION CONTACT: Edward J. DeCleva, Environmental Protection Specialist, Federal Highway Administration, The Equitable Building, Suite 100, 530 Center Street, NE., Salem, OR 97301, (503) 587-4710.

SUPPLEMENTARY INFORMATION: The FHWA, in cooperation with the Oregon Department of Transportation (ODOT) and Multnomah County, will prepare an EIS for proposed repair or replacement of the Sellwood Bridge Project across the Willamette River in Portland, Oregon. The existing Sellwood Bridge has been identified by the ODOT Statewide Bridge Inventory as deficient for load and seismic purposes. It has a sufficiency rating of 2 out of 100. The sufficiency rating is a measure of a bridge's structural integrity and transportation function with respect to current design standards. The bridge has narrow travel lanes and no shoulders and one narrow sidewalk, with light poles that intrude in the travel path of the sidewalk. It is currently load limited to 10 tons and restricts freight, emergency vehicle, and bus traffic. The western terminal of the bridge is located on an active slide area. The structure requires ongoing maintenance and repairs. With 30,000 vehicles per day, it has the highest traffic volumes of any two-lane bridge in the state of Oregon.

The FHWA, ODOT and Multnomah County will evaluate potential transportation, environment, social, cultural, and economic impacts of a range of alternatives, including a no build alternative. The project purpose and need and range of alternatives will be identified through consultations with the public, Federal, State and local agencies, and interested federally recognized tribes. ODOT and Multnomah County solicited public comments on the propose project through a public scoping meeting held in Portland, Oregon on October 25, 2006. Federal, State and local agencies, and interested federally recognized tribes will be invited to attend agency scoping meetings in December 2006. Additional public, agency, and tribal meetings will be held during the development of the EIA. A public hearing will also be held. In addition to mailings, meetings and hearing dates, times and locations will be announced on the project Web site accessible at http://www.sellwoodbridge.org/ and in local and regional newspapers. The draft EIS will be made available for public, agency and tribal review and comment prior to the public hearing.

To ensure that the full range of issues related to this proposed action are addressed and all significant issues identified, comments and suggestions are invited from all interested parties. Comments or questions concerning this proposed action and the EIS should be directed to the FHWA at the address above.

(Authority: 23 U.S.C. 315; 49 CFR 1.48)

Dated: November 3, 2006.
Edward J. DeCleva,
Environmental Protection Specialist, FHWA Oregon Division.

[FR Doc. 06-9149 Filed 11-8-06; 8:45 am]

BILLING CODE 4910-22-M